DEPARTMENT OF ENERGY

Federal Energy Regulatory Commission

[Project No. 2955-011]

City of Watervliet, New York; Notice of Intent To Prepare an Environmental Assessment

On February 28, 2020, the City of Watervliett, New York filed an application for a subsequent minor license for the 1.25-megawatt Normanskill Hydroelectric Project (Normanskill Project) (FERC No. 2955). The Normanskill Project is located on the Normans Kill in the Town of Guilderland in Albany County, New York. The project is located approximately 22.4 river miles upstream of the mouth of the Hudson River. The project does not occupy federal land.

In accordance with the Commission's regulations, on May 11, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Normanskill Project.

The EA will be issued and circulated for review by all interested parties. All comments filed on the EA will be analyzed by staff and considered in the Commission's final licensing decision.

The application will be processed according to the following schedule. Revisions to the schedule may be made as appropriate.

Milestone | Target date
Commission issues EA | November 2021.¹
Comments on EA | December 2021.
¹ The Council on Environmental Quality's (CEQ) regulations under 40 CFR 1501.10(b)(1) require that EAs be completed within 1 year of the federal action agency's decision to prepare an EA. This notice establishes the Commission's intent to prepare an EA for the Normanskill Project. Therefore, in accordance with CEQ's regulations, the EA must be issued within 1 year of the issuance date of this notice.

Any questions regarding this notice may be directed to Woohee Choi at (202) 502-6336 or woohee.choi@ferc.gov.

Dated: July 27, 2021.
Kimberly D. Bose,
Secretary.

[FR Doc. 2021-16423 Filed 7-30-21; 8:45 am]

BILLING CODE 6717-01-P